SECURITIES AND EXCHANGE COMMISSION

Order of Suspension of Trading; In the Matter of M.B.A. Holdings, Inc., Medicor Ltd., MidgardXXI, Inc., MidNet, Inc., Nettel Holdings, Inc., and Nexicon, Inc., File No. 500-1

July 14, 2011.

It appears to the Securities and Exchange Commission that there is a lack of current and accurate information concerning the securities of M.B.A. Holdings, Inc. because it has not filed any periodic reports since the period ended July 31, 2006.

It appears to the Securities and Exchange Commission that there is a lack of current and accurate information concerning the securities of Medicor Ltd. because it has not filed any periodic reports since the period ended September 30, 2006.

It appears to the Securities and Exchange Commission that there is a lack of current and accurate information concerning the securities of MidgardXXI, Inc. because it has not filed any periodic reports since the period ended September 30, 2006.

It appears to the Securities and Exchange Commission that there is a lack of current and accurate information concerning the securities of MidNet, Inc., because it has not filed any periodic reports since the period ended September 30, 2006.

It appears to the Securities and Exchange Commission that there is a lack of current and accurate information concerning the securities of Nettel Holdings, Inc. because it has not filed any periodic reports since it filed a registration statement on March 31, 2008.

It appears to the Securities and Exchange Commission that there is a lack of current and accurate information concerning the securities of Nexicon, Inc. because it has not filed any periodic reports since it filed a registration statement on December 31, 2005.

The Commission is of the opinion that the public interest and the protection of investors require a suspension of trading in the securities of the above-listed companies.

Therefore, it is ordered, pursuant to Section 12(k) of the Securities Exchange Act of 1934, that trading in the securities of the above-listed companies is suspended for the period from 9:30 a.m. E.D.T. on July 14, 2011, through 11:59 p.m. E.D.T. on July 27, 2011.

By the Commission.
Cathy H. Ahn,
Deputy Secretary.

[FR Doc. 2011-18068 Filed 7-14-11; 11:15 am]

BILLING CODE 8011-01-P